DEPARTMENT OF COMMERCE

National Oceanic and Atmospheric Administration

[RTID 0648-XC402]

Advisory Committee Special Meeting on Management Strategy Evaluation for Atlantic Bluefin Tuna

AGENCY: National Marine Fisheries Service (NMFS), National Oceanic and Atmospheric Administration (NOAA), Commerce.

ACTION: Notice of meeting.

SUMMARY: In preparation for an intersessional meeting of the International Commission for the Conservation of Atlantic Tunas (ICCAT) on management strategy evaluation (MSE) for Atlantic bluefin tuna, the Advisory Committee to the U.S. Section to ICCAT is announcing the convening of a special fall meeting.

DATES: The meeting will be held on October 5, 2022. There will be an open session from 1 p.m. to no later than 3 p.m. EDT. The remainder of the meeting will be closed to the public and will end by 5 p.m. EDT. Interested members of the public may present their views during the public comment period of the open session. The public comment period will begin at approximately 2 p.m. and conclude no later than 3 p.m.

ADDRESSES: Please register to attend the meeting at: https://forms.gle/zypwb7eDiti6PXcU6. Registration will close on October 3, 2022, at 5 p.m. EDT. Instructions for accessing the webinar session will be emailed to registered participants. Written comments may be submitted, but must be received by October 4, 2022. Written comments may be sent via email to bryan.keller@noaa.gov, or via mail to Bryan Keller at NMFS, Office of International Affairs, Trade, and Commerce, 1315 East-West Highway, Silver Spring, MD 20910.

FOR FURTHER INFORMATION CONTACT: Bryan Keller, Office of International Affairs, Trade, and Commerce, (202) 897-9208 or at bryan.keller@noaa.gov.

SUPPLEMENTARY INFORMATION: The Advisory Committee to the U.S. Section to ICCAT will meet on October 5, 2022, first in open session to receive an update on the development of MSE for Atlantic bluefin tuna. It will then meet in closed session to discuss sensitive matters in preparation for an ICCAT intersessional meeting on bluefin tuna MSE to be held on October 14, 2022. MSE is a scientific tool that allows fishery managers, scientists, and stakeholders (e.g., industry, non-governmental organizations) to simulate the workings of a fishery system to test how well different harvest strategies (a.k.a. management procedures) achieve agreed management objectives for that fishery. After several years of work, ICCAT anticipates finalizing the bluefin tuna MSE and adopting a management procedure applicable to both the western and eastern Atlantic and Mediterranean stocks of bluefin tuna at its November 2022 Annual Meeting. If adopted by ICCAT, the management procedure will be applied in order to set Total Allowable Catches (TACs) for 2023 and future years for both stocks. The United States has been participating actively in this MSE development process and have been engaging stakeholders and considering their input throughout the process through various means, including consultation with the Advisory Committee to the U.S. Section to ICCAT. The United States also participates in the development of the bluefin tuna MSE through active engagement by U.S. scientists in ICCAT's Standing Committee on Research and Statistics (SCRS).

The most up-to-date information on bluefin tuna MSE will be provided during the open session of the October 5 meeting. This session, which will take place from 1 p.m. to no later than 3 p.m. EDT, will include an opportunity for interested stakeholders to ask questions and time will also be set aside for members of the public to provide formal input on this important issue. Specifically, a public comment period will begin at approximately 2 p.m. and conclude no later than 3 p.m. Comments may also be submitted in writing for the Advisory Committee's consideration. Interested members of the public can submit comments by mail or email. Use of email is encouraged. All written comments must be received by October 4, 2022 (see ADDRESSES).

A key area where stakeholders may wish to provide input relates to the remaining candidate management procedures (CMPs) and the management tradeoffs associated with them as identified through MSE. Tradeoffs among the four management objectives, which are applicable to both stocks, will be clearly indicated in the scientific output provided by SCRS. Management objectives relate to stock status, stock safety, yield in the short, medium, and longer terms, and stability of the TAC across management periods, which could be established for 2 or 3 years.

After the open session, the Advisory Committee will go into closed session no later than 3 p.m. and will conclude its meeting at 5 p.m. EDT. During its closed session, the Advisory Committee will provide its advice on possible positions and strategies to be taken by the United States concerning bluefin tuna MSE at an October 14 intersessional meeting of ICCAT's Panel 2, the last meeting of this body before the November 2022 ICCAT Annual Meeting, at which ICCAT is expected to adopt and apply a bluefin tuna management procedure.

Authority: 16 U.S.C. 971 et seq.; 16 U.S.C. 1801 et seq.

Dated: September 21, 2022.
Alexa Cole,
Director, Office of International Affairs, Trade, and Commerce, National Marine Fisheries Service.

[FR Doc. 2022-20879 Filed 9-26-22; 8:45 am]

BILLING CODE 3510-22-P